INTERNATIONAL TRADE COMMISSION

[Investigation No. TA-201-73]

Steel

AGENCY: United States International Trade Commission.

ACTION: Scheduling of public hearing in Merrillville, Indiana.

SUMMARY: The Commission hereby gives notice of the scheduling of a public hearing in Merrillville, Indiana, in connection with investigation No. TA-201-73, Steel, under section 202(b) of the Trade Act of 1974 (“Trade Act”) (19 U.S.C. 2252(b)). The hearing will be held at the Radisson Hotel at Star Plaza (800 East 81st Avenue, Merrillville, Indiana 46410) on Friday, October 5, 2001, beginning at 9:00 a.m.

For further information concerning the conduct of this investigation, hearing procedures, and rules of general application, consult the Commission's rules of practice and procedure, part 201, subparts A through E (19 CFR part 201), and part 206, subparts A and B (19 CFR part 206).

EFFECTIVE DATE: August 28, 2001.

FOR FURTHER INFORMATION CONTACT: Vera Libeau (202-205-3176), Office of Investigations, U.S. International Trade Commission, 500 E Street SW., Washington, DC 20436. Hearing-impaired persons can obtain information on this matter by contacting the Commission's TDD terminal on 202-205-1810. Persons with mobility impairments who will need special assistance in gaining access to the hearing should contact the Office of the Secretary at 202-205-2000. Media should contact Peg O'Laughlin (202-205-1819), Office of External Relations. General information concerning the Commission may also be obtained by accessing its internet server (http://www.usitc.gov). The public record for this investigation may be viewed on the Commission's electronic docket (EDIS-ON-LINE) at http://dockets.usitc.gov/eol/public.

SUPPLEMENTARY INFORMATION: Background.—Following receipt of a request from the United States Trade Representative on June 22, 2001, the Commission instituted investigation No. TA-201-73 to determine whether certain steel products ¹ are being imported into the United States in such increased quantities as to be a substantial cause of serious injury, or the threat thereof, to the domestic industry producing an article like or directly competitive with the imported article.²

¹ The June 22, 2001, request letter from the United States Trade Representative and the accompanying annexes listing the covered products by HTS categories are on the Commission's website (http://www.usitc.gov).

² On July 26, 2001, the Commission received a resolution from the Committee on Finance of the United States Senate for an investigation of the same scope. Pursuant to section 603 of the Trade Act, the Commission consolidated the investigation requested by the Committee with the ongoing investigation.

Hearings.—As noted in its notice of institution (July 3, 2001, 66 FR 35,267), the Commission will hold hearings in connection with this investigation beginning the week of September 17, 2001, at the U.S. International Trade Commission Building. The Commission intends to publish a notice by September 5, 2001, announcing the schedule of the Washington, DC hearings. In addition, the Commission has determined that it will hold an additional hearing on October 5, 2001, at the Radisson Hotel at Star Plaza (800 East 81st Avenue, Merrillville, Indiana 46410), beginning at 9:00 a.m. Requests to appear at this additional hearing and the names of witnesses should be filed in writing with the Secretary to the Commission, 500 E Street, SW., Washington, DC 20436, no later than 5:15 p.m., September 21, 2001. Persons testifying at the October 5th hearing are encouraged to file written statements before the hearing; the deadline for filing such statements (original and 14 copies) is October 1, 2001. If statements are submitted at the hearing, please provide at least 50 copies.

The purpose of the October 5th hearing is to receive testimony directly from persons who did not participate in the Washington, DC hearings and who have first-hand knowledge of certain issues as set forth below. The Commission requests that witnesses direct their presentations to the following issues: (1) The state of the domestic steel industry or industries (e.g., employment levels, including unemployment or underemployment; worker training; level of commercial activity at productive facilities); (2) the influence of imports or other factors on the state of the domestic steel industry or industries; (3) the conditions of competition (e.g., the business cycle, domestic demand); and (4) the similarities and differences between and among specific steel products with regard to physical characteristics, uses, manufacturing process, channels of distribution, and substitutability. Requests to appear at the hearing should identify the above-listed categories and the products to be addressed and the amount of time requested. After receiving these requests, Commission staff will notify participants of their time allotments. The Commission does not intend this hearing to serve as an opportunity for rebuttal to testimony presented at the Washington, DC hearings.

Oral testimony and written materials to be submitted at this public hearing are governed by §§ 201.6(b)(2) and 201.13(f) of the Commission's rules. In light of the nature of this hearing, the Commission makes no provision for in camera testimony or for filing pre-hearing and post-hearing briefs.

Authority: This investigation is being conducted under the authority of section 202 of the Trade Act of 1974; this notice is published pursuant to section 206.3 of the Commission's rules.

Issued: August 29, 2001.
By order of the Commission.
Donna R. Koehnke,
Secretary.

[FR Doc. 01-22185 Filed 9-4-01; 8:45 am]

BILLING CODE 7020-02-P